DEPARTMENT OF THE INTERIOR

Bureau of Land Management

[NV-040-5870-EU; N-80737, 7-08807]

Notice of Realty Action: Direct (Non-Competitive) Sale of Public Lands in Lincoln County, NV

AGENCY: Bureau of Land Management, Interior.

ACTION: Notice of realty action.

SUMMARY: The Bureau of Land Management (BLM) proposes to sell a 217 acre parcel (N-80737) of federally owned lands in Lincoln County, located south of Alamo, Nevada. These public lands have been examined and found suitable for disposal utilizing direct sale procedures. The authority for the sale is established under section 203 and 209 of the Federal Land Policy and Management Act of 1976 (FLPMA) (43 U.S.C. 1713 and 1719).

DATES: Comments regarding the proposed sale must be received by BLM on or before October 4, 2007.

ADDRESSES: Written comments regarding the proposed sale must be submitted to: Field Manager, BLM Las Vegas Field Office, 4701 N. Torrey Pines Drive, Las Vegas, NV 89130.

FOR FURTHER INFORMATION CONTACT: You may contact the Las Vegas Field Office at (702) 515-5000 from 7:30 a.m. to 4:30 p.m., Monday through Friday (except Federal holidays), and ask to have your call directed to Manuela Johnson, Realty Specialist.

SUPPLEMENTARY INFORMATION: Parcel N-80737 (Parcel A) is located south of Alamo, Nevada and will be offered for sale utilizing non-competitive (direct sale) procedures in Lincoln County.

Mount Diablo Meridian, Nevada

T. 07 S., R. 61 E., (Parcel A)—Non-competitive

Section 9, NW¼ and N½SW¼;

Section 8, NE¼.

The area described contains 217 acres, more or less in Lincoln County.

This parcel of public land is proposed for sale to Lincoln County, Nevada at no less than the appraised fair market value (FMV) as determined by the authorized officer after appraisal. Current appraisal for the parcel will be available for public review at the LVFO.

As stated, parcel A is proposed for sale subject to the applicable provisions of sections 203 and 209 of the FLPMA, as well as regulations at 43 CFR Parts 2710 and 2720. The sale disposal is carried out in accordance with section 205 of the Federal Land Transaction Facilitation Act of July 25, 2000 (FLTFA) (43 U.S.C. 2304), in which the proceeds from the sale of the lands will be deposited into the Federal Land Disposal Account.

Consistent with the FLPMA section 203, the tract of public lands may be sold as a result of approved land use planning if the sale of the tract meets the disposal criteria. These lands are identified as suitable for disposal in the BLM Caliente Management Framework Plan approved July 14, 1980, and the Caliente Management Framework Plan Amendment (MFP Amendment) and Record of Decision for the Management of Desert Tortoise Habitat, approved on September 19, 2000. The identified lands are not needed for any Federal purpose. The proposed disposal action is consistent with the objectives, goals, and decisions of the MFP Amendment, and would be in the public interest.

The MFP Amendment and Record of Decision for the Management of Desert Tortoise Habitat provides that a maximum of 16,926 acres of desert tortoise habitat outside of areas of critical environmental concern (ACECs) and designated critical habitat may be disposed of through the appropriate laws. The U.S. Fish and Wildlife Service Biological Opinion (BO) for the Amendment (Appendix B) states that the actions proposed for implementation including land disposal are not likely to jeopardize the continued existence of the threatened Mojave population of desert tortoise. This disposal is in accordance with the MFP decision L-4. According to the MFP Amendment, lands identified within desert tortoise habitat, but outside designated ACECs/Desert Wildlife Management Areas (DWMAs), and critical habitat may be conveyed for community expansion and public projects. The above described lands fall outside the ACEC/DWMAs and critical habitat. They lie within the 16,926 acres and are available for sale. Once lands are transferred from public to private ownership, actions that may impact desert tortoise would be covered under section 10 of the Endangered Species Act.

This sale also meets the criteria found in Title 43 CFR 2710.0-3(a)(2) which states “Disposal of such tract shall serve important public objectives, including but not limited to, expansion of communities and economic development which cannot be achieved prudently or feasibly on lands other than public lands and which outweigh other public objectives and values, including, but not limited to, recreation and scenic values, which would be served by maintaining such tract in Federal ownership.” The City of Alamo needs these lands to promote community expansion and economic development which is prohibited by the lack of private land in Lincoln County.

The disposal (sale) of the lands also meets the criteria found under Title 43 CFR 2710.0-3(a)(3) where “such a tract, because of its location or other characteristics is difficult and uneconomic to manage as part of the public lands, and is not suitable for management by another Federal department or agency”. Parcel A is bordered on the west half by private lands and U.S. Highway 93 although physical access is limited due to the terrain.

BLM regulations at 43 CFR 2711.3-3(a) provide: “Direct sales (without competition) may be utilized, when in the opinion of the authorized officer, a competitive sale is not appropriate and the public interest would best be served by a direct sale.” Examples include, but are not limited to: (1) 43 CFR 2711.3-3(a)(1) “A tract identified for transfer to State or local government or nonprofit organization” or (2) 43 CFR 2711.3-3(a)(2) “A tract identified for sale that is an integral part of a project of public importance and speculative bidding would jeopardize a timely completion and economic viability of the project.” Direct sale is appropriate for these identified lands because Lincoln County has expressed an interest in purchasing them for the purpose of providing for community expansion and business opportunities. The County has invested substantial resources in planning efforts regarding these opportunities since 1998. The County's ownership of this parcel is vital to the success of a proposed industrial park. At present, this land is without any type of infrastructure that is necessary to attract and support business. Alamo is a remote community and businesses have been unwilling to make the necessary substantial investments in infrastructure due to the uncertainty of a market. As a result, the responsibility for providing this infrastructure will fall to Lincoln County. Lincoln County has explored a number of grant opportunities to partially fund the infrastructure investment necessary. To receive these grants, however, the county must have title to the land. Therefore it is essential that the County acquire these lands. Speculative bidding could jeopardize the economic viability for the Alamo region. If sold competitively, the lands could be purchased for speculation and remain undeveloped for a period of time. It is in the public benefit to ensure timely development of these lands; that can only be ensured by the County's acquisition of these lands. Less than two percent of the land area in Lincoln County is private. The Town of Alamo is surrounded by BLM-administered land and has no sizeable private land to accommodate economic growth or community expansion. The local economy in Lincoln County has seen little expansion or diversification in the past few decades.

Limitations in local employment have resulted in a high rate of young persons who leave the county to seek higher education or employment. While Lincoln County would like these lands to be developed for light manufacturing or industrial use, the County would like to maintain control over location and development of such facilities. Since the issuance of its Overall Economic Development Plan (OEDP) in August 1998, Lincoln County has been working on the development of this parcel as a priority project. The light manufacturing and related industries were identified in a study by a consulting group. In December 1999, they began working on securing water rights for the project. On April 9, 2001 the Nevada State Engineer granted them a permit for 215.5 acre-feet of groundwater.

The Nevada Commission on Economic Development granted Lincoln County $280,000 for land acquisition and another $90,000 for infrastructure improvements. Lincoln County Regional Development Authority (LCRDA) budgeted $75,000 for the Alamo project infrastructure, and received from the Nevada Commission on Economic Development a $20,000 grant to design and implement a Phase II target industry marketing campaign.

During the past eight years, Lincoln County has obtained a permit for drilling and pump testing in preparation of a design report and application for groundwater. In 2001, they began to actively market the proposed project to the prospective industry. Because of the lack of available private lands, the County has lost interested prospects for this project.

The BLM provided a 30-day comment period for the EA as part of its public involvement. All comments received have been considered and incorporated into the EA and Decision Record. The EA (NV-040-07-35), Decision Record, Environmental Site Assessment, map and approved appraisal report covering the proposed sale, are available for review at the BLM, Las Vegas Field Office, Las Vegas, Nevada.

Minerals for this parcel will be reserved in accordance with BLM's approved Mineral Potential Report dated October 5, 2006. Information pertaining to the reservation of minerals specific to the parcel is located in the case file and available for public review at the BLM Las Vegas Field Office (address above) or the Ely Field Office, 702 North Industrial Way, Ely, NV 89301.

Sale Segregation

Publication of this Notice in the Federal Register segregates the subject lands from all appropriations under the public land laws, including the general mining laws, except sale under the Federal Land Policy and Management Act of 1976. The segregation will terminate upon issuance of the patent, upon publication in the Federal Register of a termination of the segregation, or August 20, 2009, whichever occurs first.

Terms and Conditions

The patent issued would contain the following numbered reservations, covenants, terms and conditions:

1. All leasable minerals are reserved to the United States, its permittees, licensees and lessees, together with the right to prospect for, mine, and remove the minerals under applicable law and such regulations as the Secretary of the Interior may prescribe, along with all necessary access and exit rights.

2. A rights-of-way is reserved for ditches and canals constructed by authority of the United States under the Act of August 30, 1890 (43 U.S.C. 945).

3. The parcel is subject to valid existing rights.

4. Those rights for access road and water pipeline purposes which have been granted to Alamo Sewer & Water, its successors and assigns, by rights-of-way N-26753, pursuant to the Act of October 21, 1976 (43 U.S.C. 1761).

5. Those rights for buried fiber-optic cable purposes which have been granted to Lincoln County Telephone System, its successors and assigns, by rights-of-way N-55053, pursuant to the Act of October 21, 1976 (43 U.S.C. 1761).

6. Those rights for highway purposes which have been granted to Nevada Department of Transportation, its successors and assigns, by rights-of-way N-058197, pursuant to the Act of August 27, 1958 (43 U.S.C. 317(A)).

7. Those rights for irrigation canal purposes which have been granted to Alamo Irrigation Company, its successors and assigns, by rights-of-way NVCC-022589, pursuant to the Act of March 3, 1891 (43 U.S.C. 946-951).

8. Those rights for water facility purposes which have been granted to Lincoln County Commissioners, its successors and assigns, by rights-of-way N-63392, pursuant to the Act of October 21, 1976 (43 U.S.C. 1761).

9. The purchaser/patentee, the County of Lincoln, Nevada by accepting a patent, covenant and agree to indemnify, defend, and hold the United States harmless from any costs, damages, claims, causes of action, penalties, fines, liabilities, and judgments of any kind or nature arising from the past, present, and future acts or omissions of the patentee or their employees, agents, contractors, or lessees, or any third-party, arising out of or in connection with the patentees' use, occupancy, or operations on the patented real property. This indemnification and hold harmless agreement includes, but is not limited to, acts and omissions of the patentee and their employees, agents, contractors, or lessees, or any third party, arising out of or in connection with the use and/or occupancy of the patented real property which has already resulted or does hereafter result in: (1) Violations of Federal, State, and local laws and regulations that are now or may in the future become, applicable to the real property; (2) Judgments, claims or demands of any kind assessed against the United States; (3) Costs, expenses, or damages of any kind incurred by the United States; (4) Releases or threatened releases of solid or hazardous waste(s) and/or hazardous substances(s), as defined by Federal or State environmental laws, off, on, into or under land, property and other interests of the United States; (5) Activities by which solid waste or hazardous substances or waste, as defined by Federal and State environmental laws are generated, released, stored, used or otherwise disposed of on the patented real property, and any cleanup response, remedial action or other actions related in any manner to said solid or hazardous substances or wastes; or (6) Natural resource damages as defined by Federal and State law. This covenant shall be construed as running with the parcels of land patented or otherwise conveyed by the United States, and may be enforced by the United States in a court of competent jurisdiction.

10. Pursuant to the requirements established by section 120(h) of the Comprehensive Environmental Response, Compensation and Liability Act, 43 U.S.C. 9620(h), as amended by the Superfund Amendments and Reauthorization Act of 1988, (100 Stat. 1670), notice is hereby given that the above-described lands have been examined and no evidence was found to indicate that any hazardous substances has been stored for one year or more, nor had any hazardous substances been disposed of or released on the subject property.

The sale parcel is subject to reservations for roads, public utilities and flood control purposes in accordance with the local governing entities' transportation plans. The parcel may also be subject to applications received prior to publication of this Notice of Realty Action if processing the application would have no adverse affect on the marketability or the federally approved fair market value of a parcel. Encumbrances that may appear on the BLM public files for the parcel proposed for sale are available for review during business hours, 7:30 a.m. to 4:30 p.m. PDT, Monday through Friday, at BLM Las Vegas and Ely field offices.

No representation, warranty or covenant of any kind, express or implied, will be given or made by the United States, its officers or employees, as to access to or from the above described parcel of land, the title to the land, whether or to what extent the land may be developed, its physical condition or its past, present or potential uses, and the conveyance of any such parcel will not be on a contingency basis. It is the buyer's responsibility to be aware of all applicable Federal, State and local government policies and regulations that would affect the subject lands. It is also the buyer's responsibility to be aware of existing or prospective uses of nearby properties. Any land lacking access from a public road or highway will be conveyed as such, and future access acquisition will be the responsibility of the buyer.

The approved appraisal report, maps, EA, and other supporting documentation are available for review at the BLM Las Vegas and Ely field offices. Information is also available online at http://www.nv.blm.gov.

Under 43 CFR 2711.3-1(d) and 2711.3-1(b), a deposit of not less than 20 percent of the federally approved fair market value must be submitted, 30 days from the date of the sale offer, by 4 p.m. PDT at the BLM Las Vegas Field Office. Payment must be made in the form of cash (U.S. dollars), or in the form of a certified check, bank draft, cashier's check, postal money order or any combination thereof, made payable in U.S. dollars to the order of the DOI-Bureau of Land Management.

Failure to submit the deposit will result in forfeiture of the sale offer. Remainder of the purchase price must be paid within 180 calendar days following the date of the sale offer. Failure to pay the full price within the 180 days will disqualify the sale offer and cause the entire 20 percent deposit to be forfeited to the BLM, 43 CFR 2711.3-1(d) and 2711.3-3. No exceptions will be made. BLM cannot accept the full price at any time following the expiration of the 180th day after the sale offer. Payment must be received in the form of a certified check, postal money order, bank draft, or cashier's check made payable in U.S. dollars to the order of the DOI-Bureau of Land Management. Personal checks will not be accepted for the remainder payment. Arrangements for electronic fund transfer to BLM for the balance due shall be made a minimum of two weeks prior to payment.

Public Comments: The subject parcel of land will not be offered for sale prior to 60 days after publication of this notice of realty action. For a period until October 4, 2007, interested parties may submit written comments to the Field Manager, BLM Las Vegas Field Office, 4701 North Torrey Pines Drive, Las Vegas, NV 89130. Only written comments submitted by postal service or overnight mail will be considered as properly filed. E-mail, facsimile or telephone comments will not be considered as properly filed.

Before including your address, phone number, e-mail address, or other personal identifying information in your comment, you should be aware that your entire comment—including your personal identifying information—may be made publicly available at any time. While you can ask us in your comment to withhold your personal identifying information from public review, we cannot guarantee that we will be able to do so.

Any adverse comments regarding the proposed sale will be reviewed by the BLM Nevada State Director, who may sustain, vacate, or modify this realty action and issue a final determination. In the absence of timely filed objections, this realty action will become the final determination of the Department of the Interior.

(Authority: 43 CFR 2711.1-2)

John F. Ruhs,
Field Manager, Ely.

[FR Doc. E7-16339 Filed 8-17-07; 8:45 am]

BILLING CODE 4310-HC-P